DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the proposed information collection project: “CAHPS Field Test of Proposed Health Information Technology Questions and Methodology.” In accordance with the Paperwork Reduction Act of 1995, Public Law 104-13 (44 U.S.C. 3506(c)(2)(A)), AHRQ invites the public to comment on this proposed information collection.

DATES: Comments on this notice must be received by June 1, 2009.

ADDRESSES: Written comments should be submitted to: Doris Lefkowitz, Reports Clearance Officer, AHRQ, by e-mail at doris.lefkowitz@ahrq.hhs.gov.

Copies of the proposed collection plans, data collection instruments, and specific details on the estimated burden can be obtained from the AHRQ Reports Clearance Officer.

FOR FURTHER INFORMATION CONTACT: Doris Lefkowitz, AHRQ Reports Clearance Officer, (301) 427-1477, or by e-mail at doris.lefkowitz@ahrq.hhs.gov.

SUPPLEMENTARY INFORMATION:

Proposed Project

“CAHPS Field Test of Proposed Health Information Technology Questions and Methodology”

The Consumer Assessment of Healthcare Providers and Systems (CAHPS®) program is a multi-year initiative of the Agency for Healthcare Research and Quality. AHRQ first launched the program in October 1995 in response to concerns about the lack of good information about the quality of health plans from the enrollees' perspective. Numerous public and private organizations collected information on enrollee and patient satisfaction, but the surveys varied from sponsor to sponsor and often changed from year to year. The CAHPS® program was designed to:

• Make it possible to compare survey results across sponsors and over time;

and

• Generate tools and resources that sponsors can use to produce understandable and usable comparative information for consumers.

Over time, the program has expanded beyond its original focus on health plans to address a range of health care services and meet the various needs of health care consumers, purchasers, health plans, providers, and policymakers. Based on the literature review and an assessment of currently available survey instruments, AHRQ identified the need to develop a new health information technology module of the CAHPS® survey. The intent of the planned module is to examine in greater detail than previously patients' perspective on health information technology use by their health care professionals. The intent of the new module is to provide information to clinicians, group practices, health plans, and other interested parties regarding the impact of the use of health information technology on patients' experiences with care. The set of questions about health information technology will be tested as a part of CAHPS® Clinician & Group Survey, Adult Primary Care Questionnaire.

This study, funded through cooperative agreements with RAND and Harvard, is being conducted pursuant to AHRQ's statutory authority to conduct research and evaluations on health care and systems for the delivery of such care, including activities with respect to (1) the quality, effectiveness, efficiency, appropriateness and value of health care services and (2) health care technologies, facilities and equipment. See 42 U.S.C. 299a(a)(1) and (5).

This study is a one-time field test to be conducted in calendar year 2009. The field test to be conducted under this request will be done for the following purposes:

a. Analysis of revised item wording—Assess candidate wordings for survey items

b. Mode Analysis—Evaluate the equivalence of items administered by mail, telephone, and internet; compare the characteristics and responses of respondents who complete the survey by different modes of administration.

c. Case mix adjustment analysis—Evaluate variables that need to be considered for case mix adjustment of scores.

d. Psychometric Analysis-Provide information for the revision and shortening of questionnaires based on the assessment of the reliability and validity of survey items and composites.

The end result will be a data collection related to the assessment of patients' perspective on how well health information technology is being used by health care professionals. The field testing will ensure that the future data collection yields high quality data and to ensure a minimization of respondent burden, increase agency efficiency, and improve responsiveness to the public. The survey items will be added to currently available CAHPS® surveys and will provide a venue to clinicians and practitioners to verify the quality of their services.

Method of Collection

Respondents will be selected from four purposively chosen sites (health care providers and health insurance plans) that have implemented health information technology systems, such as electronic health records (EHRs) and electronic prescription refills, that are used by sufficient numbers of enrollees (i.e., at least 2400 enrollees per site). From each site the potential respondent universe will be patients who have been receiving care from a clinician at the health provider for at least one year prior to the survey and who have used one or more features of the health providers' EHR system. EHR systems managers have the ability to track which patients log on to the system, and which features (e.g., examine lab results, request prescription refill, etc.) the patients used. The sample selection at each site will be carried out jointly by senior leadership at the site (e.g., chief information officer) and a survey vendor experienced in conducting the CAHPS survey. We will ask the sites to provide a list of their enrollees who have seen a provider in the last 12 months and who have logged onto the EHR system in the last 12 months. We will randomly select a sample of these enrollees for the field test. We will use common statistical techniques to select the sample, e.g., computerized random number generation applied to a list of enrollees. When possible, we will stratify the enrollees at a site based on extent of HIT exposure to ensure a mix of different enrollees in the study (e.g., enrollees who use many HIT functions versus those who use few HIT functions). Institutional Review Boards (IRBs) at Harvard and RAND evaluated the study to ensure proper protection of patients' right to privacy and confidentiality as well as avoidance of harm. The study received approvals from both IRBs.

The draw will be a sample large enough to yield approximately 4,800 respondents.

Because we are assuming a 50% response rate, we will draw approximately 9,600 patients to achieve our total of 4,800 respondents.

Sites to be selected will meet the following requirements:

• As much geographic distribution as possible

• Substantial number of patients with exposure to health information technology

We anticipate a mixed mail-telephone mode of data collection which will include the following steps:

• Mailing an advance notification letter

• Mailing of the questionnaire and cover letter

• Postal card reminder

• A second mailing of the questionnaire to non-respondents

• Minimum of six telephone calls to every mail non-respondent approximately two weeks after the final mailing to complete a telephone interview

We will also administer the survey by Internet to some of the study participants. For those assigned to Internet administration an e-mail invitation will be sent that includes an invitation to participate along with a URL link to a Web-based survey hosted on a secure server. Sites will be divided between RAND's Survey Research Group and the Center for Survey Research, University of Massachusetts, Boston (CSR). RAND will use the software CfMC to administer the survey, while CSR will use Snap software.

Estimated Annual Respondent Burden

Exhibit 1 shows the estimated annualized burden for the respondents' time to participate in this data collection. The CAHPS® Clinician & Group Survey, Adult Primary Care Questionnaire will be completed by about 4,800 persons. The estimated response time of 20 minutes is based on the written length of the survey and AHRQ's experience with previous CAHPS® surveys of comparable length that were fielded with a similar, although not identical, population. The total burden hours are estimated to be 1,600 hours.

Exhibit 2 shows the respondents' cost burden associated with their time to participate in this data collection. The total cost burden is estimated to be $31,296.

Exhibit 1—Estimated Annualized Burden Hours
Form name | Number of respondents | Number of responses per respondent | Hours per response | Total burden hours
CAHPS® Clinician & Group Survey, Adult Primary Care Questionnaire | 4800 | 1 | 20/60 | 1600
Total | 4800 | 1 | na | 1600

Exhibit 2—Estimated annualized cost burden
Form name | Number of respondents | Total burden hours | Average hourly wage rate * | Total cost burden
CAHPS® Clinician & Group Survey, Adult Primary Care Questionnaire | 4800 | 1600 | $19.56 | $31,296
Total | 4800 | 1600 | na | 31,296
* Based upon the average wages, “National Compensation Survey: Occupational Wages in the United States, May 2007,” U.S. Department of Labor, Bureau of Labor Statistics.

Estimated Annual Costs to the Federal Government

The total cost to the Federal Government for developing the Health Information Technology questions, and testing them within the CAHPS® Clinician & Group Survey, Adult Primary Care Questionnaire, is $780,000, including the cost of reviewing the literature, conducting focus groups and cognitive interviews, field testing the instrument, analyzing the data, finalizing the survey, preparing reports, writing papers for journal submission, and project management (see Exhibit 3). Data collection will not exceed one year.

Exhibit 3—Estimated Annual Cost
Cost component | Total cost
Review of literature | $35,000
Focus groups | 60,000
Cognitive interviews | 80,000
Field test | 260,000
Data analyses | 80,000
Finalize survey | 50,000
Preparation of reports and journal papers | 85,000
AHRQ project management | 130,000
Total | $780,000

Request for Comments

In accordance with the above-cited Paperwork Reduction Act legislation, comments on AHRQ's information collection are requested with regard to any of the following: (a) Whether the proposed collection of information is necessary for the proper performance of AHRQ health care research and health care information dissemination functions, including whether the information will have practical utility; (b) the accuracy of AHRQ' s estimate of burden (including hours and costs) of the proposed collection(s) of information; (c) ways to enhance the quality, utility, and clarity of the information to be collected; and, (d) ways to minimize the burden of the collection of information upon the respondents, including the use of automated collection techniques or other forms of information technology.

Comments submitted in response to this notice will be summarized and included in the Agency's subsequent request for 0MB approval of the proposed information collection. All comments will become a matter of public record.

Dated: March 20, 2009.
Carolyn M. Clancy,
Director.

[FR Doc. E9-6956 Filed 3-30-09; 8:45 am]

BILLING CODE 4160-90-M